DEPARTMENT OF ENERGY

Orders Granting Authority To Import and Export Natural Gas, and To Import and Export Liquefied Natural Gas During May 2015

AGENCY: Office of Fossil Energy, Department of Energy.

ACTION: Notice of orders.

| FE Docket No.
TRIPOLARITY ENERGY CORPORATION | 15-37-NG
ECOGAS DE MEXICO S. DE R.L. DE C.V | 15-48-NG
ENVIRO EXPRESS, INC | 15-55-LNG
ENCANA MARKETING (USA) INC | 15-56-NG
E.ON GLOBAL COMMODITIES NORTH AMERICA LLC | 15-58-NG
CP ENERGY MARKETING (US) INC | 15-60-NG
MIECO INC | 15-61-NG
DOMINION COVE POINT LNG, LP | 11-128-LNG
CHENIERE MARKETING, LLC AND CORPUS CHRISTI LIQUEFACTION, LLC | 12-97-LNG
PIERIDAE ENERGY (USA) INC | 14-179-LNG
CITIGROUP ENERGY INC | 15-64-LNG
REPSOL ENERGY NORTH AMERICA CORPORATION | 15-66-NG
REV LNG LLC | 15-77-LNG
ALASKA LNG PROJECT, LLC | 14-96-LNG
IDAHO POWER COMPANY | 15-59-NG
CITADEL NPGE LLC | 15-65-NG
CASTLETON COMMODITIES CANADA LP | 15-68-NG
GDF SUEZ GAS NA LLC | 15-69-LNG
CITY OF PASADENA | 15-70-NG
BIG SKY GAS LLC | 15-71-NG
APACHE CORPORATION | 15-72-NG
PACIFIC SUMMIT ENERGY LLC | 15-73-NG
COMANCHE TRAIL PIPELINE, LLC | 15-74-NG
CNE GAS SUPPLY, LLC | 15-76-NG
PENTACLES ENERGY LLLP | 15-79-NG
U.S. GAS & ELECTRIC, INC. | 15-80-NG
AMERICAN LNG MARKETING LLC | 15-19-LNG

SUMMARY: The Office of Fossil Energy (FE) of the Department of Energy gives notice that during January 2015, it issued orders granting authority to import and export natural gas, and to import and export liquefied natural gas (LNG). These orders are summarized in the attached appendix and may be found on the FE Web site at http://energy.gov/fe/downloads/listing-doefe-authorizationsorders-issued-2015.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC on September 30, 2015.
John A. Anderson,
Director, Office of Oil and Gas Global Security and Supply, Office of Oil and Natural Gas.

Appendix

Doe/FE Orders Granting Import/Export Authorizations
3631 | 05/07/15 | 15-37-NG | Tripolarity Energy Corporation | Order granting blanket authority to import/export natural gas from/to Canada/Mexico.
3632 | 05/07/15 | 15-48-NG | Ecogas Mexico S. de R.L. de C.V | Order granting blanket authority to import natural gas from Canada and to export natural gas to Mexico.
3633 | 05/07/15 | 15-55-LNG | Enviro Express, Inc | Order granting blanket authority to import LNG from Canada by truck.
3634 | 05/07/15 | 15-56-NG | Encana Marketing (USA) Inc | Order granting blanket authority to import/export natural gas from/to Canada/Mexico.
3635 | 05/07/15 | 15-58-NG | E.On Global Commodities North America LLC | Order granting blanket authority to import/export natural gas from/to Canada/Mexico, to import LNG from Canada/Mexico by truck, to export LNG to Canada/Mexico by vessel, and to import LNG from various sources by vessel.
3636 | 05/07/15 | 15-60-NG | CP Energy Marketing (US) Inc | Order granting blanket authority export natural gas to Canada.
3637 | 05/07/15 | 15-61-NG | Mieco Inc | Order granting blanket authority to export natural gas to Canada.
3331-A | 05/07/15 | 11-128-LNG | Dominion Cove Point LNG, LP | Order granting blanket authority to import/export natural gas from/to Canada/Mexico, to export LNG to Canada/Mexico, and to import LNG from various international sources.
3638 | 05/12/15 | 12-97-LNG | Cheniere Marketing, LLC and Corpus Christi Liquefaction, LLC | Final Order and Opinion granting long-term, Multi-contract authority to export LNG by vessel from the proposed Corpus Christi Liquefaction Project to be located in Corpus Christi, Texas, to Non-Free Trade Agreement Nations.
3639 | 05/22/15 | 14-179-LNG | Pieridae Energy (USA) Inc | Order granting long-term, Multi-contract authority to export LNG to Canada and to other Free Trade Agreement Nations.
3640 | 05/21/15 | 15-64-LNG | Citigroup Energy Inc | Order granting blanket authority to import LNG from various international sources by vessel.
3641 | 05/21/15 | 15-66-NG | Repsol Energy North America Corporation | Order granting blanket authority to export natural gas to Canada.
3642 | 05/22/15 | 15-77-LNG | Rev LNG LLC | Order granting blanket authority to export LNG to Canada by truck.
3643 | 05/28/15 | 14-96-LNG | Alaska LNG Project, LLC | Order granting blanket authority to export natural gas to Canada.
3644 | 05/28/15 | 15-59-NG | Idaho Power Company | Order granting blanket authority to export natural gas to Canada.
3645 | 05/28/15 | 15-65-NG | Citadel NGPE LLC | Order granting blanket authority import/export natural gas from/to Canada/Mexico.
3646 | 05/28/15 | 15-68-NG | Castleton Commodities Canada LP | Order granting blanket authority to import/export natural gas from/to Canada.
3647 | 05/28/15 | 15-69-LNG | GDF Suez Gas NA LLC | Order granting blanket authority to import LNG from Canada by truck.
3648 | 05/28/15 | 15-70-NG | City of Pasadena | Order granting blanket authority to import/export natural gas from/to Canada.
3649 | 05/28/15 | 15-71-NG | Big Sky Gas LLC | Order granting blanket authority to import natural gas from Canada.
3650 | 05/28/15 | 15-72-NG | Apache Corporation | Order granting blanket authority to import/export natural gas from/to Canada.
3651 | 05/28/15 | 15-73-NG | Pacific Summit Energy LLC | Order granting blanket authority to import/export natural gas from/to Canada/Mexico and to import LNG from various international sources.
3652 | 05/28/15 | 15-74-NG | Comanche Trail Pipeline, LLC | Order granting blanket authority to import/export natural gas from/to Mexico.
3653 | 05/28/15 | 15-76-NG | CNE Gas Supply, LLC | Order granting blanket authority to import natural gas from Canada.
3654 | 05/28/15 | 15-79-NG | Pentacles Energy, LLLP | Order granting blanket authority to export natural gas to Mexico.
3655 | 05/28/15 | 15-80-NG | U.S. Gas & Electric, Inc | Order granting blanket authority to import/export natural gas from/to Canada.
3656 | 05/29/15 | 15-19-LNG | American LNG Marketing LLC | Order granting long-term, Multi-contract authority to export LNG in ISO containers loaded at the proposed Titusville Facility in Titusville, Florida, and exported by vessel to Free Trade Agreement Nations.

[FR Doc. 2015-25437 Filed 10-5-15; 8:45 am]

BILLING CODE 6450-01-P